SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA), which requires agencies to submit proposed reporting and recordkeeping requirements to OMB for review and approval, and to publish a notice in the Federal Register notifying the public that the agency has made such a submission. This notice also allows an additional 30 days for public comments.

DATES: Submit comments on or before May 31, 2017.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION: SBA regulations at 13 CFR, Section 120.830 requires CDCs to submit an annual report which contains financial statements, operational and management information. This information is used by SBA's district offices, Office of Credit Risk Management, and Office of Financial Assistance to obtain information from the CDCs that is used to evaluate whether CDCs are operating according to the statutes, regulations and policies governing the CDC loan program (504 program).

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Copies

A copy of the Form OMB 83-1, supporting statement, and other documents submitted to OMB for review may be obtained from the Agency Clearance Officer.

Summary of Information Collections

Title: Certified Development Company (CDC) Annual Report Guide.

Description of Respondents: Small Business Lending Companies.

Form Number: SBA Form 1253.

Total Estimated Annual Responses: 260.

Total Estimated Annual Hour Burden: 7, 280.

Curtis B. Rich,
Management Analyst.

[FR Doc. 2017-08757 Filed 4-28-17; 8:45 am]

BILLING CODE 8025-01-P